FEDERAL DEPOSIT INSURANCE CORPORATION

Sunshine Act Meeting

TIME AND DATE: 10:00 a.m. on Tuesday, October 20, 2020.

PLACE: The meeting is open to the public. Out of an abundance of caution related to current and potential coronavirus developments, the public's means to observe this Board meeting will be via a webcast live on the internet and subsequently made available on-demand approximately one week after the event. Visit http://fdic.windrosemedia.com to view the live event. Visit http://fdic.windrosemedia.com/index.php?category=FDIC+Board+Meetings after the meeting. If you need any technical assistance, please visit our Video Help page at: https://www.fdic.gov/video.html.

Observers requiring auxiliary aids (e.g., sign language interpretation) for this meeting should call 703-562-2404 (Voice) or 703-649-4354 (Video Phone) to make necessary arrangements.

STATUS: Open.

MATTERS TO BE CONSIDERED: Pursuant to the provisions of the “Government in the Sunshine Act” (5 U.S.C. 552b), notice is hereby given that the Federal Deposit Insurance Corporation's Board of Directors will meet in open session to consider the following matters:

Summary Agenda

No substantive discussion of the following items is anticipated. These matters will be resolved with a single vote unless a member of the Board of Directors requests that an item be moved to the discussion agenda.

Disposition of Minutes of a Board of Directors' Meeting Previously Distributed.

Memorandum and resolution re: Final Rule on Branch Application Procedures.

Memorandum and resolution re: Notice of Proposed Rulemaking on Removal of Transferred OTS Regulations Regarding Subordinate Organizations (Part 390, Subpart O).

Memorandum and resolution re: Notice of Proposed Rulemaking on Role of Supervisory Guidance.

Report of actions taken pursuant to authority delegated by the Board of Directors.

Discussion Agenda

Memorandum and resolution re: Final Rule on Regulatory Capital Treatment for Investments in Certain Unsecured Debt Instruments of Global Systemically Important U.S. Bank Holding Companies, Certain Intermediate Holding Companies, and Global Systemically Important Foreign Banking Organizations; Total-Loss Absorbing Capacity Requirements.

Memorandum and resolution re: Final Rule on Net Stable Funding Ratio: Liquidity Risk Measurement Standards and Disclosure Requirements.

Memorandum and resolution re: Interim Final Rule on Applicability of Annual Independent Audits and Reporting Requirements for Fiscal Years Ending in 2021.

CONTACT PERSON FOR MORE INFORMATION: Requests for further information concerning the meeting may be directed to Mr. Robert E. Feldman, Executive Secretary of the Corporation, at 202-898-7043.

Dated at Washington, DC, on October 13, 2020.
Federal Deposit Insurance Corporation.
Robert E. Feldman,
Executive Secretary.

[FR Doc. 2020-23119 Filed 10-14-20; 4:15 pm]

BILLING CODE 6714-01-P